DEPARTMENT OF DEFENSE

GENERAL SERVICES ADMINISTRATION

NATIONAL AERONAUTICS AND SPACE ADMINISTRATION

48 CFR Part 2

[FAR Case 2015-019; Docket No. 2015-0019; Sequence No. 1]

RIN 9000-AM96

Federal Acquisition Regulation; Definition of Multiple-Award Contract

AGENCY: Department of Defense (DoD), General Services Administration (GSA), and National Aeronautics and Space Administration (NASA).

ACTION: Proposed rule.

SUMMARY: DoD, GSA, and NASA are proposing to amend the Federal Acquisition Regulation (FAR) to define multiple-award contract.

DATES: Interested parties should submit written comments to the Regulatory Secretariat at one of the addresses shown below on or before August 3, 2015 to be considered in the formation of the final rule.

ADDRESSES: Submit comments in response to FAR Case 2015-019 by any of the following methods:

• Regulations.gov: http://www.regulations.gov. Submit comments via the Federal eRulemaking portal by searching for “FAR Case 2015-019”. Select the link “Comment Now” that corresponds with “FAR Case 2015-019.” Follow the instructions provided at the “Comment Now” screen. Please include your name, company name (if any), and “FAR Case 2015-019” on your attached document.

• Mail: General Services Administration, Regulatory Secretariat (MVCB), ATTN: Ms. Flowers, 1800 F Street NW., 2nd Floor, Washington, DC 20405.

Instructions: Please submit comments only and cite FAR Case 2015-019, in all correspondence related to this case. All comments received will be posted without change to http://www.regulations.gov, including any personal and/or business confidential information provided.

FOR FURTHER INFORMATION CONTACT: Ms. Mahruba Uddowla, Procurement Analyst, at 703-605-2868, for clarification of content. For information pertaining to status or publication schedules, contact the Regulatory Secretariat at 202-501-4755. Please cite FAR Case 2015-019.

SUPPLEMENTARY INFORMATION:

I. Background

On October 2, 2013, the U.S. Small Business Administration (SBA) issued a final rule establishing new policies and procedures for multiple-award contracts and task and delivery orders in the Federal Register at 78 FR 61114. The final rule implemented several provisions of the Small Business Jobs Act of 2010, Public Law 111-240. Section 1311 of Public Law 111-240 (15 U.S.C. 632(v)) added a definition of “multiple award contract”. The SBA final rule included a definition of “multiple award contract” at 13 CFR 125.1(k).

II. Proposed FAR Change

The purpose of the proposed FAR change is to define multiple-award contract. The proposed FAR change would add a definition of multiple-award contract to FAR subpart 2.1, Definitions.

III. Executive Orders 12866 and 13563

Executive Orders (E.O.s) 12866 and 13563 direct agencies to assess all costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility. This is not a significant regulatory action and, therefore was not subject to review under section 6(b) of E.O. 12866, Regulatory Planning and Review, dated September 30, 1993. This rule is not a major rule under 5 U.S.C. 804.

IV. Regulatory Flexibility Act

The change is not expected to have a significant economic impact on a substantial number of small entities within the meaning of the Regulatory Flexibility Act, 5 U.S.C. 601, et seq. The Initial Regulatory Flexibility Analysis (IRFA) is summarized as follows:

DoD, GSA, and NASA are proposing to amend the FAR to define multiple-award contract. On October 2, 2013, the Small Business Administration (SBA) issued a final rule (78 FR 61114) to implement various sections of the Small Business Jobs Act of 2010 (Pub. L. 111-240) by establishing new policies and procedures for multiple-award contracts and task and delivery orders. SBA's final rule included a definition of multiple-award contract. This proposed rule defines multiple-award contract to implement that part of SBA's final rule in the FAR.

The objective of this proposed rule is to implement a statutory requirement. The authorizing legislation is Section 1311 of the Small Business Jobs Act of 2010 (Pub. L. 111-240).

This rule is not expected to have a significant economic impact on a substantial number of small entities within the meaning of the Regulatory Flexibility Act, 5 U.S.C. 601, et seq. The proposed rule applies to all entities who do business with the Federal Government, but it is not expected to have a significant impact.

This rule does not impose any new reporting, recordkeeping or other compliance requirements. The rule does not duplicate, overlap, or conflict with any other Federal rules.

The Regulatory Secretariat has submitted a copy of the IRFA to the Chief Counsel for Advocacy of the Small Business Administration. A copy of the IRFA may be obtained from the Regulatory Secretariat. DoD, GSA, and NASA invite comments from small business concerns and other interested parties on the expected impact of this rule on small entities.

DoD, GSA, and NASA will also consider comments from small entities concerning the existing regulations in subparts affected by the rule in accordance with 5 U.S.C. 610. Interested parties must submit such comments separately and should cite 5 U.S.C. 610 (FAR Case 2015-019), in correspondence.

V. Paperwork Reduction Act

The rule does not contain any information collection requirements that require the approval of the Office of Management and Budget under the Paperwork Reduction Act (44 U.S.C. chapter 35).

List of Subject in 48 CFR Part 2

Government procurement.

Dated: May 28, 2015.
William Clark,
Director, Office of Government-wide Acquisition Policy, Office of Acquisition Policy, Office of Government-wide Policy.

Therefore, DoD, GSA, and NASA propose amending 48 CFR part 2 as set forth below:

PART 2—DEFINITIONS OF WORDS AND TERMS

1. The authority citation for 48 CFR part 2 continues to read as follows:

Authority: 40 U.S.C. 121(c); 10 U.S.C. chapter 137; and 51 U.S.C. 20113.

2. Amend section 2.101 in paragraph (b) by adding, in alphabetical order, the definition “Multiple-award contract”, to read as follows:

2.101 Definitions.

* * * * *

(b) * * *

(2) * * *

Multiple-award contract means a contract that is—

(1) A Multiple Award Schedule contract issued by GSA (e.g., GSA Schedule Contract) or agencies granted Multiple Award Schedule contract authority by GSA (e.g., Department of Veterans Affairs) as described in FAR part 38;

(2) A multiple-award task-order or delivery-order contract issued in accordance with FAR subpart 16.5, including Governmentwide acquisition contracts; or

(3) Any other indefinite-delivery, indefinite-quantity contract entered into with two or more sources pursuant to the same solicitation.

* * * * *

[FR Doc. 2015-13424 Filed 6-1-15; 8:45 am]

BILLING CODE 6820-EP-P